DEPARTMENT OF HOUSING AND URBAN DEVELOPMENT

[Docket No. FR-7077-N-08]

Privacy Act of 1974; System of Records

AGENCY: Department of Housing and Urban Development, Office of Policy Development and Research.

ACTION: Notice of a modified system of records.

SUMMARY: Pursuant to the Privacy Act of 1974, as amended, the Department of Housing and Urban Development (HUD), Office of Policy Development and Research (PD&R), is modifying system of records, for the Administrative Dataset for the Evaluation of HUD's Supportive Services Demonstration Evaluation. The Supportive Services Demonstration (SSD) is a demonstration sponsored by HUD to test the impact of Integrated Wellness in Supportive Housing (IWISH), which is a new model of housing-based supportive services on the healthcare utilization and housing stability of low-income older adults. Phase 1 of the demonstration ran from 2017-2020 and the Continuing Appropriations Act, 2021 and Other Extensions Act and the Consolidated Appropriations Act, 2021 provided additional funds and authorization to extend the demonstration for an additional two years.

DATES: Comments will be accepted on or before July 14, 2023. This proposed action will be effective immediately upon publication. Routine uses will become effective on the date following the end of the comment period unless comments are received which result in a contrary determination.

ADDRESSES: You may submit comments, identified by docket number, by one of the following methods:

Federal e-Rulemaking Portal: http://www.regulations.gov. Follow the instructions provided on that site to submit comments electronically.

Fax: 202-619-8365.

Email: www.privacy@hud.gov.

Mail: Attention: Privacy Office; Mr. LaDonne White, Chief Privacy Officer; Office of the Executive Secretariat; 451 Seventh Street SW, Room 10139; Washington, DC 20410-0001.

Instructions: All submissions received must include the agency name and docket number for this rulemaking. All comments received will be posted without change to http://www.regulations.gov including any personal information provided.

Docket: For access to the docket to read background documents or comments received go to http://www.regulations.gov.

FOR FURTHER INFORMATION CONTACT: LaDonne White; 451 Seventh Street SW, Room 10139; Washington, DC 20410-0001; telephone number (202) 708-3054 (this is not a toll-free number). HUD welcomes and is prepared to receive calls from individuals who are deaf or hard of hearing, as well as individuals with speech or communication disabilities. To learn more about how to make an accessible telephone call, please visit https://www.fcc.gov/consumers/guides/telecommunications-relay-service-trs.

SUPPLEMENTARY INFORMATION: HUD's Office of PD&R contracted with Abt Associates Inc. (Abt) to evaluate the SSD through 2026. The evaluation entails matching administrative data already being collected on demonstration participants by HUD and the Centers for Medicare and Medicaid Services (CMS) in the Department of Health and Human Services (HHS). The administrative datasets will be matched to demonstration participants and linked using personally identifying information (PII) collected by HUD. The evaluation dataset that results from the administrative data matching will include PII and protected health information (PHI) and is included in the proposed system of records. The evaluation will include interviews with demonstration participants, including HUD-assisted older adults, property owners, property managers and staff who will be recorded in the system. The reason for this modification is because the Phase 1 evaluation of SSD has also been extended through 2026 (“Phase 2”). Modifications to the SORN are being made to reflect the updated purpose of the study, the data that will be collected in the new study phase, and changes to policies and practices for data storage, retrieval, disposal, and safeguards. Specific modifications include the following: (1) changes to categories of records in the system and sources categories to include name and contact information from interview respondents and to remove categories of records that are no longer part of the system; (2) updated routine uses and removal of those uses which are no longer relevant to the data collection; (3) updated purpose to reflect the additional phase of the study, updated record retention and disposal safeguards; and (4) updated policies and practices for storage and retrieval of records.

The System of Records will encompass data assembled by HUD's contractor, Abt Associates Inc., for evaluating the Supportive Services Demonstration (SSD). In January 2016, HUD solicited applications for the SSD for Elderly Households in HUD-Assisted Multifamily Housing. The Notice of Funding Availability (NOFA) offered grant funding to multifamily property owners to implement the Integrated Wellness in Supportive Housing (IWISH) model. A total of 124 HUD-assisted properties, housing approximately 13,000 elderly residents, are participating in the demonstration. These properties are in seven states: California, Illinois, Maryland, Massachusetts, Michigan, New Jersey, and South Carolina. Phase 1 of the demonstration ran from 2017-2020 and the evaluation was completed in 2022. Phase 2 of the demonstration will be completed in 2023 and the evaluation will conclude in 2026. Specific changes to the SORN include:

a. Changes to the categories of individuals covered by the system. In addition to residents, which were included in the original SORN, individuals covered by the system will also include property owners and managers and property staff (Resident Wellness Directors and Wellness Nurses) at the 124 HUD-Assisted Multifamily Housing properties in the demonstration. These new categories of individuals are being added to reflect the new research design for the Phase 2 evaluation.

b. Added new categories of records and categories of sources to include the addition of name and contact information to be collected from interview respondent sources. The new Phase 2 evaluation requires collecting this information to help with scheduling interviews.

c. Removed categories of records that are no longer part of the system. It is no longer required to obtain Medicaid data directly from states. This information can now be accessed through CMS's Research Data Assistance Center (“ResDAC”) and thus the State Medicaid Data category has been removed. Additionally, properties in Phase 2 are no longer required to use the same web-based client management system (Population Health Logistics, or PHL), so the PHL data category has been removed as well.

d. Updated routine uses and removal of those which are no longer relevant to this data collection. Original routine use 1, the routine use about utilizing new technology, was removed because it duplicates the routine use allowing for disclosure to contractors. Routine uses 2 and 3 remain the same. A routine use about statistical purpose was added (now routine use 1) because it is essential to allow HUD to do research and statistical analysis on IWISH with outside researchers. Additionally, two other routine uses were added to cover a potential litigation event. The newly added routine use 4 allows for disclosure to a court if HUD is sued, and the newly added routine use 5 allows for disclosure to DOJ or another agency representing HUD in litigation.

e. Updated purpose to reflect the additional phase of the study. The original SORN was published in 2019 and did not forecast this new follow up information collection, thus the SORN is being revised to refer to this additional phase of the study. Updated record retention and disposal sections to reflect current retention requirements. The original SORN stated that records would be retained for three years. The new SORN states they will be destroyed upon verification of successful creation of the final document or file or when no longer needed for business use, whichever is later.

f. Updated safeguards sections to reflect current safeguard procedures for remote work. Because staff will work in their offices and remotely, additional language was added to clarify safeguarding procedures for hard copy data collected and maintained while staff are temporarily working outside of the office.

g. Updated policies and practices for storage to reflect current agency requirements. The original description of storage policies and practices was revised to clarify that records will be kept in both electronic and paper form as per Privacy Office guidance.

h. Updated policies and practices for retrieval of records to reflect this additional phase of the study. During Phase 2, electronic records may be retrieved by unique study ID, social security number, name, home address, telephone number, and personal email address.

SYSTEM NAME AND NUMBER:

Supportive Services Demonstration Evaluation, HUD/PD&R-05.

SECURITY CLASSIFICATION:

Unclassified.

SYSTEM LOCATION:

Abt Associates has headquarters at 6130 Executive Blvd., Rockville, MD 20852. HUD's Office of Policy Development and Research, Program Evaluation Division, 471 Seventh Street SW, Room 8120, Washington, DC 20410-0001.

SYSTEM MANAGER(S):

Carol S. Star, Program Evaluation Division, Office of Policy Development and Research, U.S. Department of Housing and Urban Development, 451 7th Street SW, Washington, DC 20410-0001; telephone number (202) 402-6139 (this is not a toll-free number).

AUTHORITY FOR MAINTENANCE OF THE SYSTEM:

Sections 501 and 502 of the Housing and Urban Development Act of 1970 (Pub. L. 91-609) (12 U.S.C. 1701z-1; 1701z-2(d) and (g)).

PURPOSE(S) OF THE SYSTEM:

The purpose of the system is to allow the Department to study information gathered on Supportive Services Demonstration IWISH program participants in comparison to other participants receiving HUD-assisted elderly housing. The system will link, store, and analyze data collected through the SSD evaluation (HUD data, Medicare data, Medicaid data, and qualitative data). Use of this system is essential to successfully implementing the evaluation because analyzing person-level linked health and housing data is the main way the evaluation will measure the impacts of the demonstration on participating residents. Matching existing data from different federal and state government agencies is an innovative and cost-effective evaluation method that minimizes data collection burden on the public. The interview data is essential to understanding the participants' experiences with the program. HUD and policy makers will use the information collected through the evaluation to understand the effectiveness and outcomes of the IWISH model. The evaluation will provide insight to Congress, HUD, grantee states, and other interested parties on issues to consider in providing housing-based supportive services. It will also provide rigorous, quantitative data on the impact of housing-based supportive services on healthcare utilization and housing stability among older adults in HUD-assisted housing.

CATEGORIES OF INDIVIDUALS COVERED BY THE SYSTEM:

Residents, property owners and managers, Resident Wellness Directors (RWD) and Wellness Nurses (WN) of 124 HUD-Assisted Multifamily Housing properties.

CATEGORIES OF RECORDS IN THE SYSTEM:

Age, race/ethnicity, sex, household size, salary, housing cost, length of tenure, home address, full name, date of birth, and social security number for data matching to Medicare and Medicaid data and demographic analysis. Protected health information from Medicare fee-for-service (FFS) claims data, Medicare encounter data, and Medicaid Transformed Medicaid Statistical Information System (T-MSIS) files, including data on gender. Responses to interview questions, including related to employment status, employment history, employment information, and place of birth; full name, phone number, email address, and home address to schedule interviews; Abt Study ID; audio recordings from interviews.

RECORD SOURCE CATEGORIES:

IWISH Demonstration property owners and managers, Resident Wellness Director (RWD), Wellness Nurse (WN), Tenant Rental Assistance Certification System (TRACS), Medicare and Medicaid claims.

ROUTINE USES OF RECORDS MAINTAINED IN THE SYSTEM, INCLUDING CATEGORIES OF USERS AND PURPOSES OF SUCH USES:

(1) To contractors, grantees, experts, consultants, Federal agencies, and non-Federal entities, including, but not limited to, State and local governments and other research institutions or their parties, and entities and their agents with whom HUD has a contract, service agreement, grant, cooperative agreement, or other agreement for the purposes of statistical analysis and research in support of program operations, management, performance monitoring, evaluation, risk management, and policy development, or to otherwise support the Department's mission. Records under this routine use may not be used in whole or in part to make decisions that affect the rights, benefits, or privileges of specific individuals. Research reports and other analysis conducted under this routine use may not disclose identifiable information; all results must be reported in the aggregate and must ensure that no individual is identifiable.

(2)(a) To appropriate agencies, entities, and persons when: (1) HUD suspects or has confirmed that there has been a system of records; (2) HUD has determined that as a result of the suspected or confirmed breach there is a risk of harm to individuals, HUD (including its information systems, programs, and operations), the Federal Government, or national security; and (3) The disclosure made to such agencies, entities, and persons is reasonably necessary to assist with HUD's efforts to respond to the suspected or confirmed breach or to prevent, minimize, or remedy such harm.

(3)(b) To another Federal agency or Federal entity, when HUD determines that information from this system of records is reasonably necessary to assist the recipient agency or entity in (1) responding to suspected or confirmed breach, or (2) preventing, minimizing, or remedying the risk of harm to individuals, the recipient agency or entity (including its information systems, programs, and operations), the Federal Government, or national security, resulting from a suspected or confirmed breach.

(4) To a court, magistrate, administrative tribunal, or arbitrator in the course of presenting evidence, including disclosures to opposing counsel or witnesses in the course of civil discovery, litigation, mediation, or settlement negotiations, or in connection with criminal law proceedings; when HUD determines that use of such records is relevant and necessary to the litigation and when any of the following is a party to the litigation or have an interest in such litigation: (1) HUD, or any component thereof; or (2) any HUD employee in his or her official capacity; or (3) any HUD employee in his or her individual capacity where HUD has agreed to represent the employee; or (4) the United States, or any agency thereof, where HUD determines that litigation is likely to affect HUD or any of its components.

(5) To any component of the Department of Justice or other Federal agency conducting litigation or in proceedings before any court, adjudicative, or administrative body, when HUD determines that the use of such records is relevant and necessary to the litigation and when any of the following is a party to the litigation or have an interest in such litigation: (1) HUD, or any component thereof; or (2) any HUD employee in his or her official capacity; or (3) any HUD employee in his or her individual capacity where the Department of Justice or agency conducting the litigation has agreed to represent the employee; or (4) the United States, or any agency thereof, where HUD determines that litigation is likely to affect HUD or any of its components.

POLICIES AND PRACTICES FOR STORAGE OF RECORDS:

Electronic and paper.

POLICIES AND PRACTICES FOR RETRIEVAL OF RECORDS:

Name, social security number, home address, telephone number, personal email address, and unique study ID.

POLICIES AND PRACTICES FOR RETENTION AND DISPOSAL OF RECORDS:

Temporary. Destroy upon verification of successful creation of the final document or file, or when no longer needed for business use, whichever is later.

ADMINISTRATIVE, TECHNICAL, AND PHYSICAL SAFEGUARDS:

For Electronic Records: All personal data will be maintained on a secure workstation or virtual server that is protected by a firewall and complex passwords in a directory that can only be accessed by the system administrators and the analysts actively working on the data; access rights to the data are granted to limited researchers on a need-to-know basis, and the level of access provided to each researcher is based on the minimal level required that individual to fulfill his research role; all systems used to process or store data have Federal security controls applied to them; the data will be backed up on a regular basis to safeguard against system failures or disasters; and, unencrypted data will not be stored on a laptop or on removable media such as CDs, diskettes, or USB flash drives.

For Paper Records: The site interviewers will securely store any hard copy forms with personal identifiers until they are shipped to the evaluation contractor via commercial mail services; all hard copy forms with personal identifying data (the participant agreement/informed consent form) will be stored securely in a locked cabinet or bag that can only be accessed by authorized individuals working on the data. All hard copy forms will be shipped to the evaluation contractor and stored in a locked cabinet in a locked office in a limited-access building. Additionally, permissions will be defined for each authorized user based on the user's role on the project. For example, the local site interviewer will be able to review data for study participants only for his or her own specific site. Study data will be aggregated or de-identified at the highest level possible for each required, authorized use.

RECORD ACCESS PROCEDURES:

Individuals requesting records of themselves should address written inquiries to the Department of Housing Urban and Development 451 7th Street SW Washington, DC 20410-0001. For verification, individuals should provide their full name, current address, and telephone number. In addition, the requester must provide either a notarized statement or an unsworn declaration made under 24 CFR 16.4.

CONTESTING RECORD PROCEDURES:

The HUD rule for contesting the content of any record pertaining to the individual by the individual concerned is published in 24 CFR 16.8 or may be obtained from the system manager.

NOTIFICATION PROCEDURES:

Individuals requesting notification of records of themselves should address written inquiries to the Department of Housing Urban Development, 451 7th Street SW, Washington, DC 20410-0001. For verification purposes, individuals should provide their full name, office or organization where assigned, if applicable, and current address and telephone number. In addition, the requester must provide either a notarized statement or an unsworn declaration made under 24 CFR 16.4.

EXEMPTIONS PROMULGATED FOR THE SYSTEM:

None.

HISTORY:

This is a revision to the previously published notice published in the Federal Register on March 19, 2019 (84 FR 10113).

LaDonne L. White,
Chief Privacy Officer, Office of Administration.

[FR Doc. 2023-12710 Filed 6-13-23; 8:45 am]

BILLING CODE P